DEPARTMENT OF EDUCATION

Office of Special Education and Rehabilitative Services; Overview Information; Technical Assistance on Data Collection—General Supervision Enhancement Grants: Alternate Academic Achievement Standards; Notice Inviting Applications for New Awards for Fiscal Year (FY) 2010

Catalog of Federal Domestic Assistance (CFDA) Number: 84.373X.

Dates:

Applications Available: June 8, 2010.

Deadline for Transmittal of Applications: July 23, 2010.

Deadline for Intergovernmental Review: September 21, 2010.

Full Text of Announcement

I. Funding Opportunity Description

Purpose of Program: Under section 616(i)(2) of the Individuals with Disabilities Education Act, as amended (IDEA), the Department may make awards to provide technical assistance to improve the capacity of States to meet data collection requirements.

Priority: This priority is from the notice of final priorities for this program, published in the Federal Register on July 9, 2007 (72 FR 37212).

Absolute Priority: For FY 2010 and any subsequent year in which we make awards based on the list of unfunded applicants from this competition, this priority is an absolute priority. Under 34 CFR 75.105(c)(3), we consider only applications that meet this priority.

This priority is:

Technical Assistance on Data Collection—General Supervision Enhancement Grants-Alternate Academic Achievement Standards (GSEG)

Background:

On April 9, 2010, the Department issued a notice inviting applications for new awards under the Race to the Top (RTT) Assessment Program (75 FR 18171),¹ indicating its intention to support States in developing new alternate assessments based on alternate academic achievement standards. This notice announces a separate competition for GSEG grants through which States may receive funding for the development of new alternate assessments for students with the most significant cognitive disabilities. Through the invitational priority announced in this notice, we are encouraging States to develop alternate assessments that fit coherently with the assessment systems to be developed under the RTT Assessment Program.

¹ The following Web site provides more information on the RTT Assessment Program: http://www2.ed.gov/programs/racetothetop-assessment/index.html.

Under section 1111(b)(1) of Title I of the Elementary and Secondary Education Act of 1965, as amended (ESEA), a State is required to adopt challenging student academic achievement standards and to apply the same standards “to all schools and children in the State.” In developing the Title I ESEA regulations implementing this provision, the Department acknowledged that, although all children can learn challenging content, evaluating that learning through the use of alternate academic achievement standards is appropriate for a small, limited percentage of students who are within one or more of the existing categories of disability under IDEA (e.g., autism, multiple disabilities, traumatic brain injury, mental retardation), and whose cognitive impairments may prevent them from attaining grade-level achievement standards, even with the very best instruction. Accordingly, the Department adopted regulations, in 34 CFR 200.1(d), permitting States to measure the achievement of a limited percentage of students—those with the most significant cognitive disabilities—against challenging, but alternate, academic achievement standards.

The Title I, Part A regulations in 34 CFR 200.6(a)(2)(ii)(B) also permit a State to develop alternate assessments based on alternate academic achievement standards. Alternate assessments that are used by States and local educational agencies (LEAs) under the ESEA must be designed to generate valid data that can be used for purposes of school, district, and State accountability. They must meet the requirements in 34 CFR 200.2 (State Responsibilities for Assessment) and 34 CFR 200.3 (Designing State Academic Assessment Systems) and fit coherently in the State's overall assessment system under 34 CFR 200.2. Under the provisions of 34 CFR 200.2(b), an alternate assessment must, among other things, be: (1) Aligned with a State's alternate academic achievement standards and provide coherent information about student attainment of those standards; (2) valid and reliable for the purposes for which the assessment is used; (3) consistent with relevant, nationally-recognized professional and technical standards; and (4) supported by evidence from test publishers or other relevant sources that the assessment is of adequate technical quality for each purpose required under the ESEA.

States that adopt alternate academic achievement standards are required under IDEA, as reflected in 34 CFR 300.160(c), to develop and implement alternate assessments that are aligned with the State's challenging academic content standards and that measure the achievement of children with the most significant cognitive disabilities. States must include alternate assessment data in their State Performance Plan and Annual Performance Reports relative to performance and participation of children with disabilities on State assessments under IDEA.

Priority:

The Assistant Secretary for Special Education and Rehabilitative Services establishes a priority for grants to support States with one or more of the following activities: (1) Development of alternate academic achievement standards aligned with the State's academic content standards; (2) development of high-quality alternate assessments using universal design principles, to the extent possible, that measure the achievement of students with the most significant cognitive disabilities based on those standards; (3) reporting on the participation and performance of students with disabilities on alternate assessments based on alternate academic achievement standards; and (4) development of clear and appropriate guidelines for IEP Teams to use in determining which students should be assessed based on alternate academic achievement standards, and the development and implementation of training on those guidelines for IEP Teams.

Applicants must include information in their applications on how they will work with experts in large-scale assessment and special education to ensure that they are designing alternate academic achievement standards, and assessments based on those standards, that: (1) Address the needs of students with the most significant cognitive disabilities; (2) validly, reliably, and accurately measure student performance; and (3) result in high-quality data for use in evaluating the performance of schools, districts, and States. The experts selected should represent the range of skills needed to develop assessments based on alternate academic achievement standards for students with the most significant cognitive disabilities that will meet the peer review guidelines for assessments published by the Department that are available at: http://www2.ed.gov/policy/elsec/guid/saaprguidance.pdf. Skill sets for experts must include experience with one or more of the following: (1) Large scale assessment; (2) standards-setting techniques; (3) assessment and measurement of children with disabilities; (4) accommodations and supports to assess grade-level content; (5) working with States to develop assessments; (6) development of criterion-referenced tests and instruments; (7) psychometric evaluation; (8) conducting studies of the technical adequacy of assessment instruments; (9) research and publishing in the area of assessment and psychometrics; and (10) applying the principles of universal design to large-scale assessments.

Projects funded under this priority also must—

(a) Budget to attend a three-day Project Directors' meeting in Washington, DC;

(b) If the project maintains a Web site, include relevant information and documents in a format that meets a government or industry-recognized standard for accessibility; and

(c) Provide a written assurance that the State's Assessment Office (i.e., the office that addresses accountability under Title I of the ESEA) was given the opportunity to contribute to the formulation of the application.

Under this competition we are particularly interested in applications that address the following priority.

Invitational Priority: For FY 2010 and any subsequent year in which we make awards from the list of unfunded applicants from this competition, this priority is an invitational priority. Under 34 CFR 75.105(c)(1) we do not give an application that meets this invitational priority a competitive or absolute preference over other applications.

Background:

The RTT Assessment Program supports the development of new assessment systems that are to be used by multiple States; are valid, reliable, and fair; and measure student knowledge and skills against a common set of college- and career-ready standards in English/language arts (ELA) and mathematics in grades 3 to 8 and at least once in high school. The RTT Assessment Program requires that the Comprehensive Assessment Systems developed under the program include all students who have been identified as students with disabilities under IDEA who are not eligible to participate in alternate assessments based on alternate academic achievement standards.

The assessment systems developed under the RTT Assessment Program must also produce student achievement data and student growth data that can be used to determine whether individual students are college- and career-ready.

Information gathered from the RTT assessments should be useable in informing—

(i) Determinations of school effectiveness for purposes of accountability under Title I of the ESEA;

(ii) Determinations of individual principal and teacher effectiveness for purposes of evaluation;

(iii) Determinations of principal and teacher professional development and support needs; and

(iv) Teaching, learning, and program improvement.

States are obligated, under Title I of the ESEA, IDEA, and section 504 of the Rehabilitation Act of 1973, as amended, to ensure that all children with disabilities are included in State assessment systems. States or consortia of States may apply under the absolute priority in this notice for a grant to develop alternate academic achievement standards and alternate assessments for students with the most significant cognitive disabilities. Given that the RTT Assessment program does not support the development of alternate assessments based on alternate academic achievement standards, we encourage States under this competition to develop assessments that fit coherently with the Comprehensive Assessment Systems to be developed by State consortia under the RTT Assessment Program.

This invitational priority is:

The Secretary is particularly interested in projects from consortia of States to develop alternate assessment systems for students with the most significant cognitive disabilities that fit coherently with the assessment systems to be developed under the RTT Assessment Program. These alternate assessment systems must measure student knowledge and skills against a common set of college- and career-ready standards in ELA and mathematics held in common by States in the consortia and the related alternate assessments, for grades 3 through 8, and at least one grade in high school. The Secretary is also interested in projects that propose the development of alternate assessment systems that use approaches to technology, assessment administration, scoring, reporting, and other factors that facilitate the coherent inclusion of these assessments within States' Comprehensive Assessment Systems.

Program Authority: 20 U.S.C. 1411(c) and 1416(i)(2).

Applicable Regulations: (a) The Education Department General Administrative Regulations (EDGAR) in 34 CFR parts 74, 75, 77, 79, 80, 81, 82, 84, 85, 86, 97, 98, and 99. (b) The notice of final priorities for this program, published in the Federal Register on July 9, 2007 (72 FR 37212).

Note: The regulations in 34 CFR part 79 apply to all applicants except federally recognized Indian tribes.

Note: The regulations in 34 CFR part 86 apply to institutions of higher education (IHEs) only.

II. Award Information

Type of Award: Cooperative agreement.

Estimated Available Funds for Year 1: $22,000,000.

Estimated Range of Awards for Year 1: $1,300,000-$1,500,000 per State.

Estimated Average Size of Awards for Year 1: $1,400,000 per State.

Estimated Available Funds for Years 2-4: $11,000,000.

Estimated Range of Awards for Years 2-4: $650,000-$750,000 per State.

Estimated Average Size of Awards for Years 2-4: $700,000 per State.

Maximum Award: We will reject any application that proposes a budget for a single budget period of 12 months that exceeds $1,500,000 per State in year one and $750,000 per State in years two through four. We will reject any application that proposes a budget exceeding the stated maximum award amount, unless the application involves a consortium, or any other group of eligible parties that meets the requirements of 34 CFR 75.127 through 75.129. The level of funding for a consortium, or any other group of States, outlying areas (OAs), or freely associated States (FAS) will reflect the combined total that the eligible applicants comprising the consortium, or group, would have received if they had applied separately. The Secretary does not intend to make more than one award to serve a single State, OA, or FAS. The Assistant Secretary for Special Education and Rehabilitative Services may change the maximum amount through a notice published in the Federal Register.

Estimated Number of Awards: 15 (less if consortia receive awards).

Note: The Department is not bound by any estimates in this notice.

Project Period: Up to 48 months.

III. Eligibility Information

1. Eligible Applicants: State educational agencies (SEAs), OAs, FAS, and, if endorsed by the SEA to apply and carry out the project on behalf of the SEA, local educational agencies (LEAs), public charter schools that are LEAs under State law, institutions of higher education (IHEs), tribes or tribal organizations, other public agencies, private nonprofit organizations, and for-profit organizations.

Note: States, OAs, and FAS are encouraged to form consortia with any other group of eligible parties that meet the requirements in 34 CFR 75.127 through 75.129 to apply under the priority in this notice. A consortium is any combination of eligible entities. The Secretary views the formation of consortia as an effective and efficient strategy to address the requirements of the priority in this notice.

2. Cost Sharing or Matching: This competition does not require cost sharing or matching.

3. Other: General Requirements—The projects funded under this competition must make positive efforts to employ and advance in employment qualified individuals with disabilities (see section 606 of IDEA).

IV. Application and Submission Information

1. Address To Request Application Package: Education Publications Center (ED Pubs), U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this competition as follows: CFDA number 84.373X.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 40 pages using the following standards:

• A “page” is 8.5″ x 11″, on one side only, with 1″ margins at the top, bottom, and both sides.

• Double space (no more than three lines per vertical inch) all text in the application narrative, including titles, headings, footnotes, quotations, references, abstracts, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit; or if you apply other standards and exceed the equivalent of the page limit.

3. Submission Dates and Times:

Applications Available: June 8, 2010.

Deadline for Transmittal of Applications: July 23, 2010.

Applications for grants under this competition may be submitted electronically using the Electronic Grant Application System (e-Application) accessible through the Department's e-Grants Web site, or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: September 21, 2010.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, (1) You must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this competition may be submitted electronically or in paper format by mail or hand delivery.

a. Electronic Submission of Applications.

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.373X), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.373X), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this program are from 34 CFR 75.210 and are listed in the application package.

2. Review and Selection Process: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has developed a performance measure that will be used to evaluate the overall effectiveness of projects funded under this competition. This measure is: The percentage of General Supervision Enhancement Grantee products and services that are of high-quality, relevance, and usefulness, as determined by Annual Performance Report submissions and reviews of grantee work products. To ensure that the Department has the data needed for this measure, grantees will be expected to participate in mid-term assessments of progress towards stated goals and objectives, and will also be required to report information on their projects' performance in annual reports to the Department (34 CFR 75.590). The Department will also determine at the end of the grantee's project period whether the grantee has been successful in achieving the purposes of its award.

VII. Agency Contact

For Further Information Contact: Susan Weigert, U.S. Department of Education, 400 Maryland Avenue, SW., room 4078, Potomac Center Plaza (PCP), Washington, DC 20202-2550. Telephone: (202) 245-6522.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 3, 2010.
Alexa Posny,
Assistant Secretary for Special Education and Rehabilitative Services.

[FR Doc. 2010-13783 Filed 6-7-10; 8:45 am]

BILLING CODE 4000-01-P